DEPARTMENT OF COMMERCE

National Oceanic and Atmospheric Administration

[I.D. 110204A]

South Atlantic Fishery Management Council; Public Meetings

AGENCY: National Marine Fisheries Service (NMFS), National Oceanic and Atmospheric Administration, Commerce.

ACTION: Notice of public hearings.

SUMMARY: The South Atlantic Fishery Management Council (Council) will convene public hearings regarding a change to the preferred management alternative for consideration under Action 5 in Amendment 6 to the Shrimp Fishery Management Plan (FMP). Action 5 in Amendment 6 proposes the requirement for a Federal penaeid (white, pink, and brown) shrimp permit in order to fish for or possess penaeid shrimp in the South Atlantic Exclusive Economic Zone (EEZ). Public hearings regarding other proposed management actions in Amendment 6 to the Shrimp FMP have been completed.

DATES: The hearing dates are:

1. Monday, November 22, 2004, beginning at 6 p.m. in Charleston, SC.

2. Monday, December 6, 2004, beginning at 6 p.m. in Atlantic Beach, NC.

Written comments, including e-mail comments, will be accepted until 5 p.m. on December 6, 2004.

ADDRESSES: The hearing locations are:

1. Hampton Inn and Suites, 678 Citadel Haven Drive, Charleston, SC 29414; telephone: 843-573-1200; and

2. Sheraton Atlantic Beach Hotel, 2717 W. Fort Macon Road, Atlantic Beach, NC 28512; telephone: 800-624-8875 or 252-240-1155.

Written comments should be sent to Bob Mahood, Executive Director, South Atlantic Fishery Management Council, One Southpark Circle, Suite 306, Charleston, SC 29407-4699. Comments may also be submitted via e-mail to shrimpcomments@safmc.net.

Copies of the public hearing document are available by contacting Kim Iverson, South Atlantic Fishery Management Council, One Southpark Circle, Suite 306, Charleston, SC 29407-4699; telephone: 843-571-4366 or toll free 866-SAFMC-10.

FOR FURTHER INFORMATION CONTACT: Kim Iverson, South Atlantic Fishery Management Council, One Southpark Circle, Suite 306, Charleston, SC 29407-4699; telephone: 843-571-4366 or toll free 866-SAFMC-10; fax: 843-769-4520; e-mail: kim.iverson@safmc.net.

SUPPLEMENTARY INFORMATION: Additional hearings are being scheduled because the Council, at its October 2004 meeting, chose a new preferred alternative relevant to Federal penaeid shrimp permits that is more restrictive than earlier alternatives included in the initial round of public hearings. The new preferred alternative removes an earlier exception to the permit that stated:

a valid commercial vessel permit for South Atlantic penaeid shrimp is not required if the shrimp trawler (1) is in transit in the South Atlantic EEZ and (2) no trawl net or try net aboard the vessel is rigged for fishing.

The more restrictive Alternative 4 under Action 5 in Amendment 6 specifies:

For a person aboard a shrimp trawler to fish for penaeid shrimp in the South Atlantic EEZ or possess penaeid shrimp in or from the South Atlantic EEZ, a valid commercial vessel permit for South Atlantic penaeid shrimp must have been issued to the vessel and must be on board. A federal penaeid shrimp permit will be issued to any vessel owner who submits an application.

Alternative 4 and other alternatives are described further in the Council's public hearing document, which is a summary of alternatives for Action 5 in Amendment 6 to the Shrimp FMP (see ADDRESSES for information on obtaining the public hearing document).

These meetings will be physically accessible to people with disabilities. Requests for sign language interpretation or other auxiliary aids should be directed to the Council office (see ADDRESSES) by November 19, 2004.

Dated: November 3, 2004.
Bruce C. Morehead,
Acting Director, Office of Sustainable Fisheries, National Marine Fisheries Service.

[FR Doc. 04-24957 Filed 11-8-04; 8:45 am]

BILLING CODE 3510-22-S